DEPARTMENT OF COMMERCE

National Oceanic and Atmospheric Administration

50 CFR Parts 216 and 300

RIN 0648-AX63

Trade Monitoring Procedures for Fishery Products; International Trade in Seafood; Permit Requirements for Importers and Exporters; Public Meeting

AGENCY: National Marine Fisheries Service (NMFS), National Oceanic and Atmospheric Administration (NOAA), Commerce.

ACTION: Notice of public meeting.

SUMMARY: The National Marine Fisheries Service will hold a public webinar to present details of a previously issued proposed rule (which published December 29, 2015) for electronic filing of seafood trade documents and will allow time for questions from the public.

DATES: The meeting will be held Wednesday, September, 17, 2016, from 3 p.m. until 4 p.m. eastern standard time. Written comments on the proposed rule (December 29, 2015; 80 FR 81251) must be received by February 29, 2016.

ADDRESSES: For information about connecting and system requirements to attend the webinar, visit: http://www.nmfs.noaa.gov/ia/slider_stories/2015/12/itds_proposed_rule.html. Participants are encouraged to use their telephone for the audio portion of the meeting. Instructions for audio access will be on the Web page referenced above and will be shown on the screen before joining the webinar.

Public comment on the proposed rule should be submitted by February 29, 2016 through www.regulations.gov by accessing docket NOAA-NMFS-2009-0124.

FOR FURTHER INFORMATION CONTACT: Mark Wildman, Office of International Affairs and Seafood Inspection; telephone: (301) 427-8350.

SUPPLEMENTARY INFORMATION: On December 29, 2015, NMFS published a proposed rule (80 FR 81251) to integrate three currently paper-based seafood trade monitoring programs within the scope of electronic data collection through the U.S. government-wide International Trade Data System. Background information on the proposed rule is provided at: http://www.regulations.gov/#!docketDetail;D=NOAA-NMFS-2009-0124. The purpose of the meeting is to inform the public of the proposed requirements for filing entries and exports within the International Trade Data System. Following the presentation of the proposed rule, a question and answer session will be accommodated as time allows. Public comment on the proposed rule should be submitted by February 29, 2016 through www.regulations.gov by accessing docket NOAA-NMFS-2009-0124.

Special Accommodations

The meeting is physically accessible to people with disabilities. Requests for sign language interpretation or other auxiliary aids should be directed to Mark Wildman at (301) 427-8350 at least 5 days prior to the meeting date.

Dated: February 2, 2016.
Steven Wilson,
Acting Director, Office for International Affairs and Seafood Inspection, National Marine Fisheries Service.

[FR Doc. 2016-02418 Filed 2-5-16; 8:45 am]

BILLING CODE 3510-22-P